BUREAU OF CONSUMER FINANCIAL PROTECTION

Correction to the Fair Lending Report of the Bureau of Consumer Financial Protection

AGENCY: Bureau of Consumer Financial Protection.

ACTION: Correction to the Fair Lending Report of the Bureau of Consumer Financial Protection.

SUMMARY: On June 28, 2019, the Bureau of Consumer Financial Protection (Bureau) released its Fair Lending Annual Report to Congress, describing the Bureau's efforts to fulfill its fair lending mandate during calendar year 2018. Also, as part of the Bureau's annual reporting requirements, the report provided a summary of enforcement activity taken in 2018 by the other Federal Financial Institutions Examination Council (FFIEC) agencies assigned with administrative enforcement responsibilities under Equal Credit Opportunity Act (ECOA). On September 24, 2019, the Bureau revised the report to correct the omission of a 2018 referral by the Federal Deposit Insurance Corporation (FDIC) to the U.S. Department of Justice (DOJ) involving national origin discrimination in violation of ECOA.

DATES: The Bureau released the corrected Fair Lending Annual Report to Congress on its website on September 25, 2019.

FOR FURTHER INFORMATION CONTACT: Patrice Alexander Ficklin, Assistant Director, Fair Lending and Equal Opportunity, at 1-855-411-2372. If you require this document in an alternative electronic format, please contact CFPB_Accessibility@cfpb.gov.

SUPPLEMENTARY INFORMATION: In the Bureau of Consumer Financial Protection's Fair Lending Annual Report to Congress, published on June 28, 2019, the following correction should be noted:

Pursuant to 15 U.S.C. 1691f, the Bureau is required to report annually on the enforcement actions taken by each of the FFIEC agencies assigned administrative enforcement responsibilities under the ECOA. Unfortunately, the Bureau inadvertently omitted a 2018 referral by an FFIEC agency to the DOJ involving discrimination in violation of ECOA. As noted in Section 8.2, on page 30 of the corrected Report, two FFIEC agencies made referrals to the DOJ involving discrimination in violation of ECOA in 2018: The National Credit Union Administration made a referral to the DOJ on the basis of marital status discrimination and the FDIC made a referral to the DOJ on the basis of national origin discrimination. The report as originally published did not include the referral made by the FDIC and is hereby corrected in the text and on the chart on page 30.

The corrected Fair Lending Annual Report to Congress is available on the Bureau's website at https://www.consumerfinance.gov/data-research/fair-lending-report-2018/.

Kathleen L. Kraninger,
Director, Bureau of Consumer Financial Protection.

[FR Doc. 2019-21225 Filed 9-30-19; 8:45 am]

BILLING CODE 4810-AM-P